DEPARTMENT OF ENERGY

Federal Energy Regulatory Commission

[Docket No. RP02-248-001]

Kern River Gas Transmission Company; Notice of Compliance Filing

June 25, 2002.

Take notice that on June 20, 2002, Kern River Gas Transmission Company (Kern River) tendered for filing as part of its FERC Gas Tariff, Second Revised Volume No. 1, Substitute Third Revised Sheet No. 96, Third Revised Sheet No. 97, Substitute Third Revised Sheet No. 98, Second Revised Sheet No. 98-A, Substitute First Revised Sheet No. 205, and Substitute Original Sheet Nos. 206-212, to be effective June 1, 2002.

Kern River states that the purpose of this filing is to comply with the Order Accepting Tariff Sheets Subject to Conditions, issued by the Commission on May 31, 2002, by submitting revised tariff sheets that modify certain of Kern River's proposed procedures for posting, bidding on, and awarding available capacity.

Kern River states that it has served a copy of this filing upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16493 Filed 6-28-02; 8:45 am]

BILLING CODE 6717-01-P